ENVIRONMENTAL PROTECTION AGENCY

[FRL-7414-7]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at (202) 566-1672, or e-mail at Auby.susan@epa.gov. and please refer to the appropriate EPA Information Collection Request (ICR) Number.

SUPPLEMENTARY INFORMATION:

OMB Responses to Agency Clearance Requests

OMB Approvals

EPA ICR No. 1054.08; Standards of Performance for Petroleum Refineries in 40 CFR part 60, subpart J, was approved 11/01/2002; OMB No. 2060-0022; expires 11/30/2005.

EPA ICR No. 2067.02; Laboratory Quality Assurance Evaluation Program for Analysis of Cryptosporidium Under the Safe Drinking Water Act; was approved 10/23/02; OMB No. 2040-0246; expires 10/31/2005.

EPA ICR No. 1189.11; Identification Listing and Rulemaking Petitions (Zinc Fertilizers Final Rule); in 40 CFR 261.4(a)(20)(ii)(A) & (D), 261.4(a)(20)(iii)(B), 261.4(a)(21)(iii)(D), 261.4(a)(21)(ii), 261.4(a)(21)(iii); was approved 10/23/2002; OMB No. 2050-0053; expires 11/30/2004.

EPA ICR No. 0277.13; Application for New and Amended Pesticide Registration; in 40 CFR parts 152, 156 and 158; was approved 10/22/2002; OMB No. 2070-0060; expires 10/31/2005.

EPA ICR No.1057.09; NSPS for Sulfuric Acid Plants in 40 CFR part 60, subpart H; was approved 10/22/2002; OMB No. 2060-0041; expires 10/31/2005.

EPA ICR No.1801.03; NESHAP for the Portland Cement Manufacturing Industry in 40 CFR part 63, subpart LLL; was approved 10/22/2002; OMB No. 2060-0416; expires 10/31/2005.

EPA ICR No. 1069.07; NSPS for Iron and Steel Plants: Basic Oxygen Process Furnaces in 40 CFR part 60, subparts N and Na; was approved 10/22/2002; OMB No. 2060-0029; expires 10/31/2005.

EPA ICR No. 1775.03; Hazardous Remediation Waste Management Requirements (HWIR-Media); in 40 CFR 264.1, 40 CFR part 270, subpart H, 40 CFR 264.554, 40 CFR 264.256(a), 40 CFR 265.258(a); was approved 9/10/2002; OMB No. 2050-0161; expires 09/30/2005.

EPA ICR No. 1601.05; Air Pollution Regulations for Outer Continental Shelf Activities; in 40 CFR part 55; was approved 10/17/2002; OMB No. 2060-0249; expires 10/31/2005.

EPA ICR No. 1887.02; Personal Exposure of High-Risk Subpopulations to Particles; was approved 10/31/2002; OMB No. 2080-0058; expires 10/31/2005.

Comments Filed

EPA ICR No. 2062.01; NESHAP: Site Remediation; in 40 CFR part 63, subpart GGGGG; on 10/30/2002 OMB filed a comment.

EPA ICR No. 2071.01; National Emission Standards for Hazardous Air Pollutants: Printing, Coating, and Dyeing of Fabrics and Other Textiles; in 40 CFR part 63, subpart OOOO; on 10/23/2002 OMB filed a comment.

Short Term Extensions

EPA ICR No. 0234.07; Performance Evaluation Studies on Water and Wastewater Laboratories; OMB No. 2080-0021; on 10/16/2002 OMB extended the expiration date through 01/31/2003.

EPA ICR No. 0575.08; Health and Safety Data Reporting: Submission of Lists and Copies of Health and Safety Studies; in 40 CFR part 716; OMB No. 2070-0004; on 10/30/2002 OMB extended the expiration date through 01/31/2003.

Dated: November 15, 2002.
Oscar Morales,
Director, Collection Strategies Division.

[FR Doc. 02-30259 Filed 11-27-02; 8:45 am]

BILLING CODE 6560-50-P